DEPARTMENT OF THE INTERIOR

Geological Survey

[GX20EG00COM0001; OMB Control Number 1028-New]

Agency Information Collection Activities; Submission to the Office of Management and Budget for Review and Approval; Markup Application

AGENCY: U.S. Geological Survey, Interior.

ACTION: Notice of information collection; request for comment.

SUMMARY: In accordance with the Paperwork Reduction Act of 1995, we, the U.S. Geological Survey (USGS) are proposing a new information collection.

DATES: Interested persons are invited to submit comments on or before April 8, 2021.

ADDRESSES: Send written comments on this information collection request (ICR) to the Office of Management and Budget's Desk Officer for the Department of the Interior by email at OIRA_Submission@omb.eop.gov; or via facsimile to (202) 395-5806. Please provide a copy of your comments to U.S. Geological Survey, Information Collections Officer, 12201 Sunrise Valley Drive MS 159, Reston, VA 20192; or by email to gs-info_collections@usgs.gov. Please reference OMB Control Number 1028-New in the subject line of your comments.

FOR FURTHER INFORMATION CONTACT: To request additional information about this ICR, contact Tatyana DiMascio by email at tdimascio@usgs.gov or by telephone at (303) 202-4206. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on July 1, 2019 (84 FR 31337). No comments were received.

We are again soliciting comments on the proposed ICR that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The USGS manages the National Hydrography Dataset (NHD), Watershed Boundary Dataset (WBD), and National Hydrography Dataset Plus High Resolution (NHDPlus HR). All three hydrography datasets are user-driven data, where state stewards, or USGS trained editors, perform edits to support data accuracy. The USGS role is also to provide an appropriate editing tool, offer technical support, and to distribute the datasets to the public at no cost via The National Map and, ultimately, US Topo.

“Markup Application” is the name of the USGS web application that allows citizen participation in volunteer map data collection activities for hydrography datasets. The Markup Application allows citizens to submit proposed changes and corrections, called markups, to the NHD, WBD, and NHDPlus HR by drawing newly proposed geographic features on the map or by filling out a form that explains a suggested change for a selected feature. All submitted markups, along with the user email contact, are saved in a database to be reviewed by NHD or WBD state stewards, or USGS staff, for validation. State stewards or USGS staff may contact the data volunteer via the recorded email address if further clarification is needed for a proposed change. Validated markups go in a queue of edits to be incorporated into the NHD, WBD or NHDPlus HR. The edits are made by NHD or WBD state stewards, or USGS editors using established editing tools. No edits to the hydrography datasets take place within the Markup Application.

Title of Collection: Markup Application.

OMB Control Number: 1028-NEW.

Form Number: None.

Type of Review: New Collection.

Respondents/Affected Public: General Public.

Total Estimated Number of Annual Respondents: 113.

Total Estimated Number of Annual Responses: 1,936.

Estimated Completion Time per Response: 3 minutes.

Total Estimated Number of Annual Burden Hours: 126 hours.

Respondent's Obligation: Voluntary.

Frequency of Collection: Occasional.

Total Estimated Annual Nonhour Burden Cost: None.

An agency may not conduct or sponsor and a person is not required to respond to a collection of information unless it displays a currently valid OMB control number.

The authority for this action is the Paperwork Reduction Act of 1995 (44 U.S.C. 3501 et seq.).

David Brostuen,
Director, National Geospatial Technical Operations Center, U.S. Geological Survey.

[FR Doc. 2021-04812 Filed 3-8-21; 8:45 am]

BILLING CODE 4338-11-P